DEPARTMENT OF LABOR

Employment and Training Administration

[TA-W-62,778]

Lear Corporation, Fenton, MI; Notice of Termination of Investigation

Pursuant to section 221 of the Trade Act of 1974, as amended, an investigation was initiated on January 31, 2008 in response to a worker petition filed by the United Auto Workers on behalf of workers at the Lear Corporation, Fenton, Michigan.

The petitioner has requested that the petition be withdrawn. Consequently, the investigation has been terminated.

Signed at Washington, DC, this 3rd day of March, 2008.
Richard Church,
Certifying Officer, Division of Trade Adjustment Assistance.

[FR Doc. E8-4669 Filed 3-10-08; 8:45 am]

BILLING CODE 4510-FN-P